DEPARTMENT OF THE INTERIOR

National Park Service

National Register of Historic Places; Notification of Pending Nominations and Related Actions

Nominations for the following properties being considered for listing or related actions in the National Register were received by the National Park Service before June 19, 2010. Pursuant to section 60.13 of 36 CFR Part 60, written comments are being accepted concerning the significance of the nominated properties under the National Register criteria for evaluation. Comments may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by July 30, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National, Historic Landmarks Program.

ARIZONA

Yavapai County

Tuzigoot Museum, Alternate US 89A HWY and Tuzigoot Rd, Clarkdale, 10000518

COLORADO

Bent County

Bent County High School, (New Deal Resources on Colorado's Eastern Plains MPS) 1214 Ambassador Thompson Blvd, Las Animas, 10000505

KANSAS

Morris County

Council Grove Downtown Historic District, Generally spanning from Neosho River to Belfry on W Main and extending N to Columbia between Neosho and Mission, Council Grove, 10000519

MASSACHUSETTS

Barnstable County

Atwood-Higgins Historic District, Bound Brook Island Rd, Wellfleet, 10000508

Suffolk County

Charles River Reservation—Upper Basin Headquarters, 1420-1440 Soldiers Field Rd, Boston, 10000506

MINNESOTA

Yellow Medicine County

Wood Lake Battlefield Historic District, Intersection of 218 Ave and 600 St, Sioux Agency Township, 10000517

MISSOURI

Clay County

Missouri City Savings Bank Building and Meeting Hall, 417-419 Main St, Missouri City, 10000507

NEW YORK

Cortland County

Taylore Center Methodist Episcopal Church and Taylore District #3 School, 4332-4338 Cheningo-Solon Pond Rd, Taylore Center, 10000513

Lewis County

Croghan Island Mill, 9897 S Bridge St, Croghan, 10000515

Moser Farm, 8778 Erie Canal Rd, Kirschnerville, 10000516

Monroe County

Grace Church, 9 Brown's Ave, Scottsville, 10000514

Onondaga County

Barnes—Hiscock House, The, 930 James St, Syracuse,10000512

TENNESSEE

Hamilton County

Ridgedale Methodist Episcopal Church, 1518 Dodds Ave, Chattanooga, 10000509

Sullivan County

Fairmont Neighborhood Historic District, Roughly bounded by Taylor St, Pennsylvania Ave, Maple St, and Florida Ave, Bristol, 10000510

WEST VIRGINIA

Randolph County

Fort Marrow, N corner USR 219 and CR 219/16, Huttonsville, 10000511

[FR Doc. 2010-17217 Filed 7-14-10; 8:45 am]

BILLING CODE P